DEPARTMENT OF HEALTH AND HUMAN SERVICES

Centers for Disease Control and Prevention

Board of Scientific Counselors Meeting, National Institute for Occupational Safety and Health (NIOSH)

In accordance with section 10(a)(2) of the Federal Advisory Committee Act (Pub. L. 92-463), the Centers for Disease Control and Prevention (CDC) announces the following committee meeting:

Name: Board of Scientific Counselors (BSC), NIOSH.

Time and Date: 10 a.m.-3:30 p.m., July 21, 2005.

Place: National Institute for Occupational Safety and Health, Robert A. Taft Laboratories, 4676 Columbia Parkway, Cincinnati, Ohio 45226.

Status: Open to the public, limited only by the space available. The meeting room accommodates approximately 50 people. Visiting members of the public must present valid identification (U.S. Federal ID, State Driver's License, or other State-sanctioned ID) for entry to Taft Laboratories and must be escorted by facility staff at all times while inside the facility.

Purpose: The Secretary, Department of Health and Human Services; the Assistant Secretary for Health; and by delegation the Director, Centers for Disease Control and Prevention, are authorized under Sections 301 and 308 of the Public Health Service Act to conduct directly or by grants or contracts, research, experiments, and demonstrations relating to occupational safety and health and to mine health. The Board of Scientific Counselors shall provide guidance to the Director, NIOSH, on research and preventions programs. Specifically, the Board shall provide guidance on the Institute's research activities related to developing and evaluating hypotheses, systematically documenting findings and disseminating results. The Board shall evaluate the degree to which the activities of NIOSH: (1) Conform to appropriate scientific standards, (2) address current, relevant needs, and (3) produce intended results.

Matters To be Discussed: Agenda items include a report from the Director of NIOSH; progress reports by BSC working groups on the National Occupational Research Agenda and the health hazard evaluation program, NIOSH emergency/terrorism preparedness, a tour of the Taft Laboratories, and closing remarks.

Agenda items are subject to change as priorities dictate.

Contact Person for More Information: Roger Rosa, Executive Secretary, BSC, NIOSH, CDC, 200 Independence Avenue, SW., Room 715H, Washington, DC 20201, telephone (202) 205-7856, fax (202) 260-4464.

The Director, Management Analysis and Services Office, has been delegated the authority to sign Federal Register notices pertaining to announcements of meetings and other committee management activities for both CDC and the Agency for Toxic Substances and Disease Registry.

Dated: June 22, 2005.
Alvin Hall,
Director, Management Analysis and Services Office, Centers for Disease Control and Prevention.

[FR Doc. 05-12689 Filed 6-27-05; 8:45 am]

BILLING CODE 4163-18-P